DEPARTMENT OF THE INTERIOR

Fish and Wildlife Service

Notice of Receipt of Applications for Permit

The following applicants have applied for a permit to conduct certain activities with endangered species. This notice is provided pursuant to Section 10© of the Endangered Species Act of 1973, as amended (16 U.S.C. 1531, et seq.):

Applicant: Detroit Zoological Institute, Royal Oak, MI, PRT-028855.

The applicant requests a permit to import one captive-born male mandrill (Mandrillus sphinx) from the Toronto Zoo, Canada, for the purpose of enhancement of the survival of the species through propagation.

Applicant: Alfred Rordame, Salt Lake City, UT PRT-028978.

The applicant requests a permit to import the sport-hunted trophy of one male bontebok (Damaliscus pygargus dorcas) culled from a captive herd maintained under the management program of the Republic of South Africa, for the purpose of enhancement of the survival of the species.

Applicant: Joe B. Finley, Belton, SC, PRT-028593

The applicant requests a permit to import the sport-hunted trophy of one male bontebok (Damaliscus pygargus dorcas) culled from a captive herd maintained under the management program of the Republic of South Africa, for the purpose of enhancement of the survival of the species.

Applicant: Haines T. Lowell, Columbia Falls, MT, PRT-029139.

The applicant requests a permit to import the sport-hunted trophy of one male bontebok (Damaliscus pygargus dorcas) culled from a captive herd maintained under the management program of the Republic of South Africa, for the purpose of enhancement of the survival of the species.

Applicant: Stephen Fullmer, Salt Lake City, UT PRT-029359.

The applicant requests a permit to import the sport-hunted trophy of one male bontebok (Damaliscus pygargus dorcas) culled from a captive herd maintained under the management program of the Republic of South Africa, for the purpose of enhancement of the survival of the species.

Applicant: Zoological Society of San Diego, Escondido, CA, PRT-027118.

The applicant requests a permit to import three male and three female Chinese Dhole (Cuon alpinus lepturus) as the beginning of a captive propagation program for the species.

Applicant: Tulsa Zoo, Tulsa, OK PRT-027871

The applicant requests a permit to import two female Jaguars (Panthera onca) for the purpose of enhancement of the survival of the species through propagation.

Marine Mammal

Applicant: Ross Zimmerman, Winnermucca, NV, PRT-028902.

The applicant requests a permit to import a polar bear (Ursus maritimus) sport-hunted from the Lancaster Sound polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: June 23, 2000.
Kristen Nelson,
Chief, Branch of Permits, Office of Management Authority.

[FR Doc. 00-16441 Filed 6-28-00; 8:45 am]

BILLING CODE 4310-55-P